INTER-AMERICAN FOUNDATION

Sunshine Act Meeting

TIME AND DATE: December 2, 2002-11-15, 9 a.m.-12 noon.

PLACE: The Hotel Princess Zona Rosa Av. las Magnolias y Blvd del Hipodromo, San Salvador, El Salvador, Tel: (503) 298-4545.

STATUS: Open session.

MATTERS TO BE CONSIDERED: • Approval of the Minutes of the June 3, 2002 Meeting of the Board of Directors and Advisory Council.

• President's Report.

• Presentation on Corporate Foundation Network.

• Advisory Council.

• Board Nominations and Confirmations.

CONTACT PERSON FOR MORE INFORMATION: Carolyn Karr, Senior Vice President and General Counsel, (703) 306-4350.

Dated: November 15, 2002.
Carolyn Karr,
Senior Vice President and General Counsel.

[FR Doc. 02-30115 Filed 11-22-02; 3:10 pm]

BILLING CODE 7025-01-M